INTERNATIONAL TRADE COMMISSION

[Investigation No. 337-TA-1295]

Certain Integrated Circuit Products and Devices Containing the Same; Commission Determination Not To Review an Initial Determination Granting Complainant's Motions To Terminate the Investigation Based on Withdrawal and Settlement; Termination of the Investigation In Its Entirety

AGENCY: U.S. International Trade Commission.

ACTION: Notice.

SUMMARY: Notice is hereby given that the U.S. International Trade Commission has determined not to review the presiding administrative law judge's (“ALJ”) initial determination (“ID”) (Order No. 17), granting complainant's motions to terminate the investigation based on withdrawal and settlement. The investigation is terminated in its entirety.

FOR FURTHER INFORMATION CONTACT: Cathy Chen, Office of the General Counsel, U.S. International Trade Commission, 500 E Street SW, Washington, DC 20436, telephone 202-205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on January 31, 2022, based on a complaint, as supplemented, filed on behalf of Future Link Systems, LLC of Santa Clara, California. 87 FR 4915 (Jan. 31, 2022). The complaint, as supplemented, alleged violations of section 337 of the Tariff Act of 1930, as amended, 19 U.S.C. 1337, based upon the importation into the United States, the sale for importation, and the sale within the United States after importation of certain integrated circuit products and devices containing the same that infringe one of more of claims 1-6 of U.S. Patent No. 7,685,439 and claims 1-9 of U.S. Patent No. 8,099,614. Id. at 4916. The complaint also alleged the existence of a domestic industry. Id. The Commission's notice of investigation named seventeen respondents: Advanced Micro Devices, Inc. of Santa Clara, CA; Apple, Inc. of Cupertino, CA; Broadcom Inc. of San Jose, CA; Broadcom Corp. of San Jose, CA; Qualcomm Inc. of San Diego, CA; Qualcomm Technologies Inc. of San Diego, CA; Amlogic Holdings Ltd. of Cayman Islands; Amlogic (CA) Co., Inc. of Santa Clara, CA; Realtek Semiconductor Corp. of Taiwan (“Realtek”); Dell Technologies Inc. of Round Rock, TX; HP INC. of Palo Alto, CA; Acer Inc. of Taiwan; Acer America Corp. of San Jose, CA; Lenovo Group Ltd. of Hong Kong, China; Lenovo (United States) Inc. of Morrisville, NC; Motorola Mobility LLC of Chicago, IL; and Google LLC of Mountain View, CA. Id. The Office of Unfair Import Investigations (“OUII”) was also named as a party in this investigation. Id.

On April 28, 2022, Complainant filed a motion to terminate the investigation as to Respondent Realtek based on withdrawal of the complaint. ID at 1. Thereafter, on May 6, 2022, Complainant filed a motion to terminate the investigation as to all remaining Respondents other than Realtek based on a single patent license agreement and multiple release agreements. Id. at 1-2. Realtek opposed the motions to the extent they would prevent the ALJ from ruling on any pending issues. Id. at 1, 2. OUII filed statements in support of the motions. Id. All other Respondents either did not oppose or did not take a position on the motions. Id.

On May 31, 2022, the ALJ issued the subject ID (Order No. 17), granting Complainant's motions to terminate the investigation. The ID found that the motion to terminate Respondent Realtek complies with Commission Rule 210.21(a), 19 CFR 210.21(a), and there are no extraordinary circumstances preventing the withdrawal. Id. at 3-4.

As for the motion to terminate all other Respondents, the ID noted that not all Respondents other than Realtek are named in the patent license agreement and/or release agreements. Id. at 4 n.2. For those not named, the ID stated that “termination by settlement under Commission Rule 210.21(b) would not be appropriate, as opposed to general withdrawal under Commission Rule 210.21(a).” Id. The ID found that “[r]egardless, the motion complies with all Commission Rules.” Id. The ID also found that “there are no extraordinary circumstances that warrant denying the motion” and “there is no evidence indicating that terminating this investigation based on various agreements would be contrary to the public interest.” Id. at 4, 5. The ID also noted that the motion attached confidential and public versions of the agreements. Id. at 4. No petition for review of the ID was filed.

The Commission has determined not to review the subject ID. The investigation is terminated in its entirety.

The Commission vote for this determination took place on June 9, 2022.

The authority for the Commission's determination is contained in section 337 of the Tariff Act of 1930, as amended, 19 U.S.C. 1337, and in Part 210 of the Commission's Rules of Practice and Procedure, 19 CFR part 210.

By order of the Commission.
Issued: June 9, 2022.
Lisa Barton,
Secretary to the Commission.

[FR Doc. 2022-12794 Filed 6-13-22; 8:45 am]

BILLING CODE 7020-02-P